DEPARTMENT OF THE INTERIOR

National Park Service

Record of Decision, Final Rural Landscape Management Program Environmental Impact Statement, Cuyahoga Valley National Park, OH

SUMMARY: The National Park Service (NPS) has prepared this Record of Decision (ROD) for the final rural landscape management program environmental impact statement (EIS) for Cuyahoga Valley National Park, Ohio (CUVA). The final EIS addresses the long-term management of the rural landscape (i.e., agricultural lands and associated structures) in the park. This ROD is a concise statement of the decisions made, other alternatives considered, the basis for the decision, the environmentally preferable alternative, the mitigating measures developed to avoid or minimize environmental harm, and the public involvement in the decision-making process.

FOR FURTHER INFORMATION CONTACT: Superintendent, Cuyahoga Valley National Park, 15610 Vaughn Road, Brecksville, Ohio 44141, or by phone 440-546-5903.

Background of the Project

Preservation of the rural landscape (i.e., lands and structures modified by humans for agricultural use) is central to CUVA's legislative mandate. The CUVA encompasses approximately 33,000 acres of relatively undeveloped land along 22 miles of the Cuyahoga River between the metropolitan areas of Cleveland and Akron, Ohio. Within the legislative boundary, the NPS owns approximately 18,500 acres. The remainder of land is owned and under management by other public or quasi-public entities, or remains in private ownership. Management of the rural landscape on the federally-owned acres within park boundaries is the focus of the Final EIS (i.e., 1,345 acres of land and 58 properties with 175 structures as described in final EIS, section 2.3). The law that established CUVA mandates the “preservation of the historic, scenic, natural, and recreational values of the Cuyahoga Valley” (Public Law 93-555, 1974). One component of the historic and scenic values of CUVA is the rural landscape. Throughout the park's history, efforts to preserve the rural landscape have been sporadic; there has never been a comprehensive program to manage the rural landscape. As a result, many of the park's rural landscape resources have been lost. Therefore, CUVA is proposing to better protect and revitalize this cultural resource by implementing an integrated rural landscape management program, with the goal of more effectively and systematically preserving and protecting the rural landscape resources in the park. The final EIS analyzes four alternatives and their associated impacts.

Farming history in the park and in the Cuyahoga Valley Region is significant. For the past one thousand years, there has been some form of agriculture in the Valley. In the more recent past, specifically the 1800s, agriculture was the dominant and very prosperous way of life, particularly due to efficient transportation of goods via the Ohio & Erie Canal and the railroad system. But by the 20th century, new developments in agriculture in other parts of the State and country surpassed the Valley's farming methods. As a result, farming in northeast Ohio began to decline, while industrial, commercial, and residential development increased. However, the Cuyahoga Valley Region was largely spared from extensive development due to its challenging geography and geology. The 33,000-acre CUVA was created in December 1974, effectively halting the conversions of historic farmsteads into residential and commercial uses. Today, the total amount of active farming in CUVA is about 3.6 percent of park land. Private farmers or other groups on non-Federal lands conduct half of this farming (590 acres).

As the NPS began to acquire land for the new park, beginning in 1975, the focus was on protecting land from development pressures. However, once acquired, farm structures and farm fields were not given priority attention. Most of the farm buildings were allowed to stand vacant and deteriorating, and farm fields were untended and prone to ecological succession. While undeveloped lands in natural condition were seen to benefit from this “hands off” management strategy, farm properties suffered severe negative impacts. Attempts to address this shortcoming in rural landscape management were slow and haphazard and usually occurred in a very opportunistic fashion. Efforts including occasional mowing of farm fields, involvement of local farmers through short-term special use permits, and adaptive re-use of scattered historic farm buildings proved to be inadequate given the magnitude of the rural landscape preservation challenge.

The most recent effort to address rural landscape management is significant. To develop CUVA's first long-term, comprehensive, agricultural plan, park managers conceptualized a new program called the Countryside Initiative (CI). The park assisted with the formation of a nonprofit partner, the Cuyahoga Valley Countryside Conservancy (CVCC), to help develop and facilitate the CI. The NPS has developed a cooperative agreement with the CVCC for this purpose. A request for proposals (RFP) for five sustainable agriculture farmsteads was offered in January 2001. The park has recently negotiated three leases as a pilot project for the CI. The expansion of this program is outlined as alternative 2 (the preferred alternative) in the Final EIS. (Final EIS appendices B, E and G contain information about the agricultural leasing program, sustainable agricultural practices and fencing guidelines).

The NPS has several mechanisms that allow for agriculture in parks. One of those is its Management Policies (2001) document, which states that agriculture is allowed when those agricultural activities “* * * do not result in unacceptable impacts on park resources, values, or purposes, conform to activities that occurred during the historic period, and support the park's interpretive themes.” Agricultural uses that do not conform to those in practice during the historic period may be allowed if they “* * * contribute to the maintenance of a cultural landscape * * *” or “* * * are carried out as part of a living exhibit or interpretive demonstration.” The NPS may also allow livestock use “* * * when required in order to maintain a historic scene.”

Similarly, on the park level, CUVA has developed several planning documents that address the topic of preserving the rural landscape. In particular, the park's general management plan (GMP; NPS 1977) states that “the rural character of America is readily communicated in the agricultural landscapes that have survived to the present day. These and other valuable resources suggest both careful preservation and imaginative interpretation to ensure they become an integral part of the Cuyahoga environment” (p. 35). The GMP, as well as several other planning documents, which are examined in detail in final EIS chapter 1, trace the park's continued desire to preserve the rural landscape and show what steps the park has taken over the years to do so. CUVA currently implements 11 management methods that help preserve the rural landscape, such as several types of leasing, special use permits and mowing to name a few. All 11 of these are explained in the final EIS section 1.2.4.5. Individually, each of these methods has benefits and drawbacks. Collectively however, it is the inherent drawbacks of these methods that do not allow for the comprehensive management of the entire rural landscape. Although individuals with special use permits are farming some fields, this is generally done on a short-term basis so the farmers usually are not focused on long-term care of the land. There are many other fields that could contribute to the rural landscape, but if they are not tended to regularly by permit holders, lessees, or the NPS mow crew, the fields become overgrown. There are more buildings in the park than the park can actually use for its own purposes, so many buildings sit idle and are subject to vandalism and/or deterioration and ultimately, demolition. Unfortunately, the opportunistic fashion in which the many methods have been applied has made rural landscape management in the park a laborious, expensive, and less than effective undertaking.

Agricultural open space is defined in this final EIS to be approximately 1,345 acres of Federal land. Currently, the NPS manages approximately 740 acres using one of the 11 methods described in final EIS section 1.24.5. The remaining 605 acres of available open space are not currently actively managed for rural landscape value. The proposed action would designate these areas for mowing or potential agricultural use. A total of 85 properties with 267 structures contribute to the rural landscape in CUVA (these are identified in final EIS Appendix A). Fifty-eight properties consisting of 175 structures are considered to be available for modified management under the proposed action using the various methods described in the alternatives. The preferred rural landscape management approach at CUVA will:

Continue the agricultural tradition—Agricultural activity, or the appearance thereof, must be preserved in order to maintain agricultural open space and promote the historic character of the Cuyahoga Valley. Either active farming or open rural landscapes without active farming would be acceptable means of achieving this objective. Preserve scenic values—CUVA's enabling legislation mandates the preservation of scenic values, which include cultural and natural elements. The preservation of agricultural lands and structures that make up the park's rural landscape will help achieve this objective, but any action must be balanced with effects on natural scenic values.

Use environmentally sound practices—NPS policies and practices promote responsible stewardship of the land. Because the proposed action described in this document will affect the park landscape broadly, environmentally sound practices are imperative.

Decision (Selected Action)

Under the selected alternative (alternative 2: Countryside Initiative), the rural landscape would be managed largely by issuing long-term leases to private individuals for the purpose of conducting sustainable agricultural activities and revitalizing a ‘sense of place’ in the Cuyahoga Valley. Lands and structures would be leased together for agricultural use, at a rate of 2-3 farms per year for ten years, for periods of up to 60 years. Agricultural open space associated with these farmsteads and not currently managed would be cleared by mowing and/or brush hogging in preparation for farming activities over the next decade.

Farmers would be selected for the leasing program through a RFP. These farmers would be required to submit annual farm operating that describe proposed farm activities such as new construction, crop and livestock selection, farming practices, and pesticide, fertilizer, and water use. All farm activities will require NPS approval.

Land management and day-to-day maintenance of farm buildings would become largely the responsibility of the lessees. Pesticide use in the park would be expected to increase as more land is put into active economically-based production, but the types of pesticides used would be largely biological rather than chemical. The use of cultural practices, biological pesticides and controls, and NPS integrated pest management practices would be emphasized over chemical uses. Changes to the landscape elements are expected. Fencing, outbuildings, farm-related structures, bridges, windmills and other structures could be built on leased farmsteads. Because these farms need to be economically viable, farmers will need to protect their products from foraging wildlife, so the increase in fencing is expected to be substantial. However, all fences will conform to the fencing guidelines in appendix G of the final EIS.

Farmers would be expected to use the common marketing methods used in sustainable farming such as pick-your-own opportunities, community supported agriculture, restaurant supported agriculture, roadside stands, or weekly farmers markets.

In addition to the actions described above, the following actions are part of the selected alternative and all other alternatives that were considered (described in the next section). The actions common to all the alternatives include:

Policies, Protocols, and Monitoring: Each alternative will conform to a common set of applicable regulations, NPS guidelines, policies, and procedures.

Common Vista Management Actions: Two large areas will be managed (through mowing or habitat management) as grassland habitat and one area will continue to be mowed for recreational purposes; these 135 acres are not available for agricultural use.

Management Methods Available: All possible management methods may be used in any of the alternatives, so the alternatives primarily differ in the emphasis of one or two methods over the others.

Rehabilitation and Maintenance of Properties: The NPS will rehabilitate properties and be responsible for major property maintenance over time. Day-to-day maintenance may be the responsibility of the particular user if other than the NPS. Also, the rate at which properties are rehabilitated is constant among alternatives (approximately 3-4 per year for 10 years), although the type of rehabilitation may differ. Properties will be rehabilitated in order of priority for use. Structures on properties pending rehabilitation will undergo interim stabilization measures and associated lands will be maintained to control succession.

Resources Reviews: Natural and cultural resource staff will review all lands and structures that will undergo any change in current management methods before any changes are approved.

New Acquisitions and Unforeseen Circumstances: If additional lands and structures are acquired by the NPS, they will be assessed as described in the final EIS for current NPS lands and structures, and then managed under the selected alternative.

Mitigation Measures and Monitoring

Several mitigation measures and monitoring efforts have been developed to reduce and minimize adverse impacts from the selected alternative. These include the mitigation of possible impacts to grassland and old field habitats and associated wildlife, water resources, and cultural resources and comprehensive monitoring efforts.

In order to minimize and mitigate the effects of changing agricultural land uses on species dependent upon open grassland areas and older fields, the park has set aside lands for grassland management and will develop a habitat management plan for old field and shrub habitats within 5 years.

Two large areas in the rural landscape were designated as grassland habitat management areas under all alternatives. These areas are currently open meadows and will be kept open primarily for their habitat values and rural character by mowing or other means. This acreage will not be available for other management methods. Two of the largest and most significant existing grassland habitat blocks have been designated for this purpose including the site of the old Richfield Coliseum (Coliseum) (75.5 acres) and a large restored area along the Cuyahoga River between the I-271 and I-80 bridges (35.4 acres). The Coliseum site has recently been restored and now provides high quality habitat for several rare or declining grassland bird species.

The continued loss of older fields over time to successional growth will likely exacerbate the adverse impacts of the proposed action on wildlife dependent upon these habitats. To help mitigate these impacts, a significant portion of the older fields were intentionally left in the landscape during planning, including the preservation of some of the largest tracts available (several 50-acre blocks) on Federal land.

The Habitat Management Plan will be developed to prescribe appropriate clearing schedules and methods that will maximize grassland and old field habitat values. In this plan, the park will evaluate the desired successional stages, total acreage, landscape distribution, temporal management regimes, and available tools for managing these habitats and balance the benefits of preserving rare habitats with the adverse effects of arresting succession (i.e., edge effects and fragmentation). Such a plan will identify park goals and areas for maintenance as old field or shrub habitats and outline grassland habitat management efforts for the two grassland management areas. These habitat management efforts are in compliance with guidance provided in executive order 13186. Management plans will reflect any additional NPS guidance related to this order as it becomes available. Appropriate NEPA compliance and environmental analysis will be required for such a plan. The NPS has developed protection plans for CUVA wetland and riparian areas that will prevent most direct and indirect impacts on the Cuyahoga River, streams, and wetlands from NPS activities on agricultural lands. Effective protection for these resources will be afforded through the establishment of protective buffer zones that are required under all alternatives. Summaries of these plans are found in final EIS, appendix H. Should any buffers be found to be ineffective through park monitoring efforts, corrective measures and mitigation will be undertaken.

It is possible that the NPS, after determining that no practicable alternative exists, may decide to expressly permit some level of adverse impact on wetlands or other water resources or their buffers to increase the utility or cultural resource value of a structure or farmstead. Such situations can not be readily identified at this time as they are related to site-specific plans not yet developed. Should these situations arise, the NPS will implement environmental compliance and documentation procedures as required under the Clean Water Act, NEPA, and Director's Order 77-1 (Wetland Protection) to examine site-specific impacts. The NPS will first seek to avoid impacts to wetlands. Unavoidable impacts will be minimized and mitigated.

As guided by National Register criteria and the Cultural Resources Management Guideline (NPS 1997a), mitigation measures for cultural resources would be implemented when it is not possible to protect archeological resources, historic structures, and cultural landscapes and an adverse impact is expected. Mitigation measures typically consist of data recovery and detailed recording. Data recovery projects will be designed in consultation with the State Historic Preservation Office (SHPO) and will conform to NPS and professional standards. Archeological data recovery projects, in particular, will include a written mitigation plan and Memorandum of Agreement between the park and the SHPO. This agreement will then be filed with the Advisory Council on Historic Preservation.

In order to ensure that agricultural activity conforms to final EIS policies and protocols and that undesirable impacts are not occurring, the following monitoring efforts will be implemented (as detailed in final EIS Appendix B):

• An interdisciplinary NPS committee was created to oversee and review agricultural plans and activities in the park.

• The NPS Historical Architect will conduct annual inspections to assess the condition of historic fabric to ensure that properties are being preserved adequately.

• NPS cultural landscape staff will conduct annual farm visits to ensure the preservation and protection of the rural landscape. Farms will be assessed for undocumented changes to the landscape in agricultural fields and curtilage. In addition, the general condition of farm landscapes will be assessed to ensure adequate upkeep.

• NPS Resources Management staff will inspect wetland and riparian buffer boundaries adjacent to agricultural lands annually through site visits during the growing season.

• The CVCC has broad monitoring responsibilities for CI farmers. The CVCC staff maintains close contact with lessees, normally visiting farms several times each month to observe operations, and to offer guidance on management issues. In addition to such continuous, informal monitoring, CVCC more formally assists lessees' preparation of an annual operating plan, and an annual operating review. Thereafter, CVCC helps the NPS evaluate these documents for compliance with park policies and guidelines. While CVCC has a general oversight function for all aspects of lessee farm use, it is particularly responsible for observing and comparing their production practices with commonly accepted standards for sustainable agriculture.

• NPS staff, cooperators and independent researchers will continue to research and monitor natural resources in and around agricultural areas. The park will encourage and support new projects that examine the effects of agricultural activities on natural resources and identify important ecological indicators. Several such agricultural research projects are currently underway or planned.

Due to the programmatic nature of the rural landscape management program final EIS, specific projects will be reviewed as necessary for compliance with NEPA, National Historic Preservation Act, and other applicable Federal and State laws and regulations prior to project clearance and implementation. Additional mitigation measures would be developed as needed should undesirable impacts to resources be identified.

Other Alternatives Considered

Alternative 1: No Action

Under Alternative 1, the NPS would continue to manage the rural landscape under current park plans and practices using the available management methods. In other words, the various methods would continue to be applied to unmanaged areas and structures opportunistically as needs arise. There would be no significant change in the emphasis of how these methods are used.

Agricultural special use permits (SUP) and vista management by mowing would continue to be the dominant land management strategy, so a mix of conventional farming, sustainable farming, and equestrian uses would be expected. Adaptive park uses and long-term leasing would dominate structure management. Land management and day-to-day maintenance of farm buildings and curtilage lands would be shared in many ways among leaseholders and NPS staff. Little new construction or fencing is expected because the short-term nature of SUP farms does not motivate many farmers to take on this kind of expense. Finally, pesticide use in the park may increase if more land is leased, but the proportion of leased lands treated with pesticides and the type of pesticides used is expected to remain relatively constant. Because of the opportunistic nature of this alternative, some loss of land to succession and loss of structures to deterioration is expected.

Alternative 3: Vista Management

In this alternative, the NPS would manage the rural landscape primarily for scenic values. The most significant change would be that upon expiration, agricultural SUPs and other agricultural activities on park property, would convert to mowing and non-agricultural use. Regarding structures, the restoration of currently unused farm structures would primarily be as scene-setters (buildings that strictly add to the aesthetics of the park as features of the cultural landscape without any operational function), or secondarily as residential, office, or other non-agricultural use.

Regarding lands, lands would be used for non-agricultural purposes and be mowed to maintain open fields or as wildlife habitat. Curtilage lands will be mowed by NPS to maintain open space. Areas identified as significant for rare, threatened, endangered, or declining plants and animals would be identified and managed to increase habitat value, usually by adjusting mow frequency and timing. Mowing and other land management and maintenance activities would be largely the responsibility of NPS. Little new construction or installation of fencing is expected. Pesticide use would be expected to decrease as land is taken out of agricultural use.

Alternative 4: NPS Farming

In this alternative, the NPS would manage the rural landscape primarily by hiring employees or contractors to implement a network of farmed areas as directed by the NPS to give the appearance of active farming in the park. Under this option, lands not under agricultural use would be put into agricultural use and unused structures would be rehabilitated primarily as scene-setters or to support NPS farming activities. Curtilage lands around these structures would be mowed. A farming program directed by the NPS could also include a few farms demonstrating various themes such as sustainability and farming practices of specific historical eras. Basically, the NPS would fill any gaps in agricultural activity on rural lands. This alternative seeks to preserve not only the open space and vistas associated with agricultural areas, but also the agricultural activities associated with those areas.

Areas currently farmed would continue to be farmed under the management method already in place, but areas currently managed as open vistas would gradually be converted to NPS farming. Whether SUP farmers or NPS farmers were doing the farming, agriculture would be increased above current levels under this alternative. Therefore, land management activities and day-to-day maintenance of farm buildings would become largely the responsibility of NPS staff or contractors. Since the emphasis here would be on the activities relating to farming—plowing, sowing, and harvesting—little emphasis on crop protection or production would be made, therefore, an increase in fencing or pesticide use is not likely to occur.

Basis for Decision

The selected alternative best supports the park's purpose and significance and accomplishes the statutory mission of the NPS to provide long-term protection of park resources while allowing for appropriate levels of visitor use and means of visitor enjoyment. As required by NEPA, the selection of an alternative was based solely on the information gathered and analyzed in the final EIS. In full consideration of NPS and park mandates outlined in this document, the beneficial effects and negative impacts on all aspects of the human environment are compared along with the expected economic costs and technical aspects of each alternative. A review of costs indicates that while all alternatives considered have start-up costs ranging from $20-$27 million over the first 20 years, alternative 2 would result in the establishment of a rural landscape management program with the lowest overall annual costs to the park over the long-term.

Inherent to this decision-making process are trade-offs between natural and cultural resources. In many cases, actions that provide the most benefit to cultural resources also have the greatest negative effects on natural resources, and the opposite is often true as well. These inherent trade-offs largely explain why the park's preferred alternative (which provides the greatest benefit to cultural resources by recreating a “living landscape” but also unavoidably negatively affects natural resources) has been selected over the environmentally preferred alternative (which provides overall minor or moderate benefits to both natural and cultural resources).

Impairment

The NPS Organic Act directs the NPS to manage the parks “to conserve the scenery and the natural and historic objects and the wildlife therein and to provide for the enjoyment of the same in such manner and by such means as will leave them unimpaired for the enjoyment of future generations.” Both the NPS Organic Act and the General Authorities Act prohibit an impairment of park resources. The NPS Management Policies (2001, section 1.4.5) provides additional guidance on what resources and impacts may constitute an impairment. An impact is more likely to constitute an impairment to the extent that it affects a resource or value whose conservation is: (1) Necessary to fulfill a specific purpose identified in the establishing legislation or proclamation of the park; (2) key to the natural or cultural integrity of the park or to opportunities for enjoyment of the park; or (3) identified as a goal in the park's general management plan or other relevant NPS planning documents. An impact would be less likely to constitute impairment to the extent that it is an unavoidable result of an action necessary to preserve or restore the integrity of park resources or values, which cannot reasonably be further mitigated. Impairment is an impact that, in the professional judgment of the responsible NPS manager, would harm the integrity of park resources or values, including opportunities that otherwise would be present for the enjoyment of those resources.

After careful consideration of all impacts to resources that might result from actions taken by the park in implementing the selected alternative, the NPS found that no impairment of park resources or values would occur. Few resources would be expected to experience major or moderate adverse impacts from implementing the selected alternative (see table 2.9 and chapter 4 of the final EIS for more information). Where such impacts are expected, they are largely unavoidable or the result of cumulative actions outside the park's authority to control.

Some actions may have unavoidable adverse impacts, but many of these have been minimized or reasonably mitigated. For example, the conversion of grasslands and “older fields” to agricultural use has direct consequences on species that live in those habitats, so two large grassland habitat management areas were designated to preserve the largest and highest quality habitat for rare and declining bird species and other species dependent on that habitat. Similarly, some of the largest existing areas of shrub habitat were preserved and not targeted for agricultural use and a Habitat Management Plan will be drafted within 5 years to address the long-term maintenance of these open habitats.

Also, the preservation of open space in a largely forested landscape contributes to forest fragmentation levels and related edge effects. The selected alternative alone would not lead to impairment, but the cumulative effects on forests from continued regional losses and increased fragmentation of forested areas outside of the park and the effects of regionally overabundant deer populations could possibly lead to the eventual local extirpation of some sensitive forest interior species that need large, uninterrupted expanses of land. This would constitute a major adverse impact, but is not likely to lead to impairment due to the small number of species involved and the indirect and unavoidable nature of the impact.

Finally, if under the selected alternative, white-tailed deer are forced to browse more heavily in bottomland forests because farm fields and open habitats are suddenly off limits, bottomland forests may be less likely to regenerate. The effects of this action alone would not lead to impairment, but the action could contribute to impairment if bottomland forests are lost. Mitigation associated with this potential impact is beyond the scope of the final EIS; however, the NPS has already initiated planning for a full separate environmental impact analysis under NEPA to assess possible management alternatives for reducing deer-related impacts and preventing impairment of park resources and values.

Based on the analysis in the final EIS, the selected alternative will not lead to the impairment of park resources and will not violate the NPS Organic Act.

Environmentally Preferred Alternative

The environmentally preferable alternative is defined as “the alternative or alternatives that will promote the national environmental policy as expressed in section 101 of the NEPA. Ordinarily, this means the alternative that causes least damage to the biological and physical environment; it also means the alternative that best protects, preserves, and enhances historic, cultural, and natural resources” (“Forty Most Asked Questions Concerning Council on Environmental Quality's (CEQ) NEPA Regulations,” 1981). It should be noted when identifying the environmentally preferred alternative, economic, recreational and technical issues are not considered.

Under alternatives 1 and 4, the adverse impacts associated with conventional agricultural uses will largely be compensated for by the maintenance of open; mostly unfenced agricultural lands and hayfields that still provide many benefits to wildlife that depend on them. Overall, only relatively minor adverse impacts are expected on the biological and physical environment from these Alternatives. Alternative 1 would only minimally protect historic and cultural resources, while alternative 4 provides a higher level of protection and enhancement of those resources from a larger increase in farming in the park.

In contrast, the selected alternative (alternative 2) has the potential to have overall moderate adverse effects on biological and physical resources. This is primarily due to the fact that farming under this alternative is economically-driven and requires farmers to largely exclude wildlife from areas they now use through fencing, guardian animals, and other deterrents. The conversion of high-quality forage areas (i.e., crops such as corn) and habitats (i.e., hayfields) to other, better protected crops will effectively result in a net loss of forage areas and habitat. Additionally, new construction is expected to be highest under this alternative which may have additional adverse effects on the biological and physical environment.

While having the greatest impacts on the biological and physical environment, alternative 2 is also the only alternative that provides major benefits to the historic and cultural environment through a significant increase in agricultural activity by resident farmers. The establishment of a living and working rural landscape that only this alternative provides has the highest possible value to the parks cultural and historical environment and is the primary reason this alternative is the park's preferred alternative.

Under alternative 3, active agricultural activity is largely eliminated from the park and replaced with relatively innocuous mowing regimes to keep areas open. This alternative actually provides minor to moderate overall benefits to many wildlife species that depend on these habitats. It is the only alternative that actually provides net benefits to natural resources from the removal of many potential environmental stressors and potential new construction actions directly related to agricultural activity. This alternative also provides moderate benefits to the historic and cultural environment, though not nearly as much as alternatives 2 and 4.

Alternative 3 is therefore considered to be the environmentally preferred alternative in this EIS as defined by the Council on Environmental Quality because it causes the least amount of impact on biological and physical resources, and provides at least moderate benefits to the natural, cultural and historical environment of the park.

Measures To Minimize Harm

All practicable means to avoid or minimize environmental harm that could result from implementation of the preferred alternative have been identified and incorporated into the alternative (as described above). They include, but are not limited to, setting aside and managing grassland areas for habitat values (section 2.4.3 of the final EIS), resource monitoring and management; buffering of water resources from agricultural activity, cultural and natural resource surveys and consultation prior to new construction or the use or modification of lands and structures, and the commitment to develop a Habitat Management Plan for grassland and shrub areas (section 4.3.3 of the final EIS). Additional mitigation measures would be developed as needed should undesirable impacts to resources be identified.

Due to the programmatic nature of the rural landscape management program final EIS, specific projects will be reviewed as necessary for compliance with the NEPA, National Historic Preservation Act, and other applicable Federal and State laws and regulations prior to project clearance and implementation.

Public Involvement

A summary of public involvement in the initial scoping and planning activities is outlined in Section 1.4 and appendix C of the final EIS. Since 1999, the NPS has conducted preliminary internal and external scoping activities to discuss the management of the park's rural landscape by meeting with other agencies, organizations, and individuals. Through these preliminary scoping activities, the NPS proposed a change in the rural landscape management practices at the park.

When the proposed changes were identified as potentially affecting the human environment, the NPS decided to prepare an environmental assessment for the proposed action in May 2001. Environmental Assessments (EA) are written when the potential environmental impacts of an action are unknown. Formal scoping activities began for the EA in May 2001. Letters were mailed to natural and cultural resource agencies and organizations and a press release to major media outlets was issued. The letters and releases suggested a range of alternatives for rural landscape management. Twenty comments were received and several newspapers carried editorials and letters from the public on the issue. The NPS soon decided that due to the scale and complexity of the proposed action and the possibility that significant impacts may result from the action, the preparation of an EIS would be required. Public and agency comments received during the EA scoping process were summarized and kept for use in the EIS scoping process.

The NPS initiated the process of preparing an environmental impact statement for rural landscape management in the park by publishing a notice of intent in the Federal Register on July 27, 2001. The notice of intent suggested a range of alternatives for rural landscape management, noted that public meetings were to be scheduled, and directed the public to a special park website for more information. Subsequently, a press release containing similar information was issued to approximately 160 local media contacts and to a list of 400 individuals who had expressed specific interest in park agricultural activities. The press release and the summary of issues and alternatives identified during the EA scoping process were placed on the park website. Additionally, letters specifically requesting input were mailed to 93 natural and cultural resource agencies, agricultural groups, local municipalities, universities, tribes, organizations, and 26 individuals. Two public open houses held on August 22, 2001, were attended by approximately 40 people. Public input was accepted until September 11, 2001. Seventeen written comments were received.

The public and other agencies identified many environmental issues associated with the proposed action during the scoping process. Briefly, concerns about possible impacts from the proposed action on park cultural resources and landscapes, scenic values, wildlife and vegetation, water resources, and other natural resources were raised. Social issues such as public health and safety, changes in recreational opportunities, and economic impacts on local communities and school districts were also identified.

In addition to public scoping, numerous agencies and organizations have been consulted throughout the preparation of this document. Cultural resource compliance for this project as required under section 106 of the National Historic Preservation Act, as amended, has been completed. Additionally, a consultation with the U.S. Fish and Wildlife Service was completed, and will continue as required in accordance with the Endangered Species Act.

The draft EIS was made available for a 60-day public review period from February 14-April 15, 2003. We distributed copy of the document to a list of over 100 agencies, organizations, local communities, tribes, Members of Congress, and individuals listed in the draft EIS, section 52. Notices of availability of the draft EIS were published in the Federal Register by the NPS (February 5, 2003) and the U.S. Environmental Protection Agency (February 14, 2003). Press releases to local media, paid announcements in the major local newspapers, and the park web site also announced the availability of the document. Reference copies were made available at park headquarters and ten local libraries. The document was also available on the park web site for viewing or downloading. A copy of the draft EIS was sent to anyone that requested one.

Public meetings were held in the park on March 19, 2003, from 12-2 p.m., and March 20, 2003, from 6-8 p.m. to solicit further comments. Approximately 20 people attended each meeting. Comments made during the public meetings as noted by NPS staff are included in section 5.3 responses to comments.

The NPS received 77 formal written comments during the comment period in addition to the public meeting comments. Comments received within two weeks after the comment period closed were accepted. All comments are reprinted in full in Final EIS Section 5.3 Responses to Comments. The NPS responses to substantive comments are also provided in that section. The final EIS includes corrections and additions based on the substantive comments received. Additional revisions not affecting the analysis to correct errata and improve consistency are also included in the final EIS.

A notice of availability for the final Rural Landscape Management Program Environmental Impact Statement for CUVA was published in the Federal Register on January 2, 2004. Since the notice was to appear in the December 24, 2003, Federal Register, the Environmental Protection Agency indicated the 30-day no-action period ended on January 22, 2004.

Conclusion

Full consideration of the park's purpose and significance and its statutory mission, the benefits and costs to the human environment, and public input resulted in the selection of the final program, as described in the “Alternative 2—Countryside Initiative (Preferred Alternative)” section of the Final Environmental Impact Statement.

Dated: February 13, 2004.
Ernest Quintana,
Regional Director, Midwest Region.

[FR Doc. 04-11165 Filed 5-17-04; 8:45 am]

BILLING CODE 4312-52-P